DEPARTMENT OF LABOR

Occupational Safety and Health Administration

[Docket No. OSHA-2024-0005]

National Advisory Committee on Occupational Safety and Health (NACOSH); Notice of Membership Appointments

AGENCY: Occupational Safety and Health Administration (OSHA), Labor.

ACTION: Notice of NACOSH membership appointments.

SUMMARY: On December 17, 2024, the Acting Secretary of Labor appointed four members to serve on the National Advisory Committee on Occupational Safety and Health (NACOSH).

FOR FURTHER INFORMATION CONTACT:

For press inquiries: Mr. Frank Meilinger, Director, OSHA Office of Communications, U.S. Department of Labor; telephone (202) 693-1999, (TTY (877) 889-5627); email meilinger.francis2@dol.gov.

For general information: Ms. Lisa Long, Deputy Director, Directorate of Standards and Guidance, OSHA, U.S. Department of Labor; telephone 202-693-2409; email long.lisa@dol.gov.

For copies of this Federal Register Notice: Electronic copies of this Federal Register notice are available at http://www.regulations.gov. This notice, as well as news releases and other relevant information, are also available at OSHA's web page at www.osha.gov.

SUPPLEMENTARY INFORMATION:

I. Background

The Occupational Safety and Health Act of 1970 (OSH Act) (29 U.S.C. 651, 656) established NACOSH to advise, consult with and make recommendations to the Acting Secretary of Labor and the Secretary of Health and Human Services (HHS) on matters relating to the administration of the OSH Act. NACOSH is a continuing advisory committee of indefinite duration.

NACOSH operates in accordance with the Federal Advisory Committee Act (FACA) (5 U.S.C. 1001 et seq.), implementing regulations (41 CFR part 102-3), the OSH Act, and OSHA's regulations on NACOSH (29 CFR part 1912a).

NACOSH is comprised of 12 members: four public representatives, two management representatives, two labor representatives, two occupational safety professional representatives, and two occupational health professional representatives (29 CFR 1912a.2). The Acting Secretary of Labor appoints all of these members. However, the Secretary of HHS designates four representatives: two of the four public representatives and two occupational health professional representatives. NACOSH members serve staggered two-year terms, unless the member becomes unable to serve, resigns, ceases to be qualified to serve, or is removed by the Acting Secretary.

On July 17, 2024, OSHA published a request for nominations for four NACOSH positions that will expire on January 16, 2025 (89 FR 58193). Specifically, OSHA requested nominations for:

• One (1) public representative;

• One (1) management representative;

• One (1) labor representative; and

• One (1) occupational safety professional representative.

OSHA handled the nominations consistent with the process identified in the Federal Register notice. The Acting Secretary of Labor proceeded with the appointment of individuals to four positions on December 17, 2024.

II. Appointment of Committee Members

OSHA received nominations of highly qualified individuals in response to the agency's request for nominations (89 FR 58193). The Acting Secretary appointed NACOSH members on the basis of their experience and competence in the field of occupational safety and health (29 CFR 1912a.2). The NACOSH members that the Acting Secretary appointed December 17, 2024, effective January 16, 2025, with terms expiring January 16, 2027, are:

Public Representative

• John Stephen Frost, University of South Florida OSHA Training Institute Education Center

Management Representative

• Kirk Sander, National Waste & Recycling Association

Labor Representative

• Rebecca Reindel, AFL-CIO

Occupational Safety Professional Representative

• Sarah Williams Ischer, National Safety Council

Authority and Signature

James S. Frederick, Deputy Assistant Secretary of Labor for Occupational Safety and Health, directed the preparation of this notice under the authority granted by 29 U.S.C. 656 and 5 U.S.C. 1001 et seq., 29 CFR part 1912 and 1912a, 41 CFR 102-3 and Secretary of Labor's Order No. 8-2020 (85 FR 58393, Sept. 18, 2020).

Signed at Washington, DC, on December 23, 2024.
James S. Frederick,
Deputy Assistant Secretary of Labor for Occupational Safety and Health.

[FR Doc. 2024-31425 Filed 12-30-24; 8:45 am]

BILLING CODE 4510-26-P